OFFICE OF MANAGEMENT AND BUDGET

Request for Feedback on Draft Materials for Broadening Public Participation and Community Engagement With the Federal Government

AGENCY: Office of Management and Budget, Executive Office of the President.

ACTION: Notice of public feedback period.

SUMMARY: The Office of Management and Budget (OMB) is seeking public feedback on a draft memorandum titled Broadening Public Participation and Community Engagement with the Federal Government. As drafted, the memorandum would provide Federal agencies with common definitions and guiding principles for public participation and community engagement, a sample framework to help decide when and how to involve the public in decision-making processes, and steps to help advance effective and meaningful public engagement.

Additionally, OMB is preparing the first iteration of a U.S. Federal Public Participation and Community Engagement Toolkit to help Federal agencies better plan, implement, and assess the impact of participation and engagement. OMB also requests feedback on the draft outline of this toolkit.

The full text of the draft memorandum and the full draft outline of the toolkit are available for review at www.performance.gov/participation.

DATES: Feedback must be provided on or before November 29, 2024.

ADDRESSES: In an effort to improve accessibility, OMB is offering multiple options to provide feedback.

Written Feedback: Responses can be submitted through a simple, open-ended form at www.performance.gov/participation. Instructions for submitting feedback are available on the site.

Listening Sessions: Options to register for live events hosted by OMB to hear from the public are also available at www.performance.gov/participation. ASL interpretation, live captioning, and live audio translation in Spanish and Mandarin Chinese will be provided.

Privacy Act Statement: Response to this request is voluntary. OMB will use your feedback to inform sound decision making on topics related to this memorandum. All responses received may be publicly disclosed, including any personal and business confidential information provided. Please do not include in your responses any information of a confidential nature, such as sensitive personal information or proprietary information, or any information that you would not like to be made publicly available. The OMB System of Records Notice, OMB Public Input System of Records, OMB/INPUT/01, 88 FR 20,913 (Apr. 7, 2023), available at www.federalregister.gov/d/2023-07452, includes a list of routine uses associated with the collection of this information.

Individuals and organizations who respond to this request may be contacted for clarification, related discussions, events, or surveys.

FOR FURTHER INFORMATION CONTACT: Please email the Office of Management and Budget at publicparticipation@omb.eop.gov.

SUPPLEMENTARY INFORMATION: In developing these draft materials, OMB considered feedback received from the public and Federal agencies through OMB's Request for Information on Methods and Leading Practices for Advancing Public Participation and Community Engagement With the Federal Government, 89 FR 19,885 (Mar. 20, 2024), available at www.federalregister.gov/d/2024-05882, and related listening sessions.

The proposed memorandum on participation and engagement would complement guidance from OMB's Office of Information and Regulatory Affairs on Broadening Public Participation and Community Engagement in the Regulatory Process (July 10, 2023), available at www.whitehouse.gov/wp-content/uploads/2023/07/Broadening-Public-Participation-and-Community-Engagement-in-the-Regulatory-Process.pdf, which focuses on how agencies can better engage the public when developing regulations.

The toolkit would centralize materials to help agencies engage the American people, including individuals from underserved communities, in ways that better meet agency and community needs and priorities. The toolkit would also build on prior Federal efforts, such as the U.S. Public Participation Playbook (Feb. 3, 2015), available at digital.gov/guides/public-participation.

Lauren Stocker,
Deputy Associate Director, Performance and Personnel Management, Office of Management and Budget.

[FR Doc. 2024-27341 Filed 11-21-24; 8:45 am]

BILLING CODE 3110-01-P